CONSUMER PRODUCT SAFETY COMMISSION

16 CFR Part 1228

[Docket No. CPSC-2014-0018]

Revisions to Safety Standard for Sling Carriers; Corrections

AGENCY: Consumer Product Safety Commission.

ACTION: Correcting amendments.

SUMMARY: On April 20, 2020, the Consumer Product Safety Commission (Commission or CPSC) issued a direct final rule revising CPSC's mandatory standard for sling carriers to incorporate by reference the most recent version of the applicable ASTM standard. That document omitted an ASTM contact phone number. This document adds an ASTM contact telephone number. Additionally, that document contained a CPSC telephone number that is now inactive. To ensure that the public will be able to contact CPSC, in this document, we provide a correct telephone number and add an email contact, which will provide the public several ways to contact CPSC, even during the COVID-19 pandemic.

DATES: Effective on July 8, 2020.

FOR FURTHER INFORMATION CONTACT: Alberta E. Mills, Division of the Secretariat, U.S. Consumer Product Safety Commission, 4330 East West Highway, Bethesda, MD 20814; telephone: 301-504-7479; email: cpsc-os@cpsc.gov.

SUPPLEMENTARY INFORMATION: The Commission is correcting errors in the direct final rule, Revisions to Safety Standard for Sling Carriers, 16 CFR part 1228, which published in the Federal Register on April 20, 2020. 85 FR 21766. In § 1228.2(a), this document adds an ASTM contact telephone number: 610-832-9585, and corrects the CPSC telephone number to 301-504-7479. This document also adds an email address to provide an additional contact option to reach the agency's Secretary: cpsc-os@cpsc.gov. This document does not make any substantive changes to the final rule. We are making these corrections to avoid possible confusion and to provide the public several ways to contact CPSC, even during the COVID-19 pandemic.

List of Subjects in 16 CFR Part 1228

Consumer protection, Imports, Infants and children, Law enforcement, and Toys.

Accordingly, 16 CFR part 1228 is corrected by making the following correcting amendments:

PART 1228—SAFETY STANDARD FOR SLING CARRIERS

1. The authority citation for part 1228 continues to read as follows:

Authority: Sec. 104, Pub. L. 110-314, 122 Stat. 3016 (15 U.S.C. 2056a).

§ 1228.2 [Amended]

2. Amend § 1228.2(a) by:

a. Removing “; www.astm.org.” at the end of the third sentence, and adding “USA; phone: 610-832-9585; www.astm.org.” in its place; and

b. Removing the telephone number “301-504-7923,” in the fifth sentence, and adding “301-504-7479, email: cpsc-os@cpsc.gov,” in its place.

Alberta E. Mills,
Secretary, U.S. Consumer Product Safety Commission.

[FR Doc. 2020-13350 Filed 7-7-20; 8:45 am]

BILLING CODE 6355-01-P